DEPARTMENT OF STATE

[Public Notice 5726]

Bureau of International Security and Nonproliferation; Permanent Waiver of Missile Proliferation Sanctions Against Sectors of Chinese Government Activities

AGENCY: Department of State.

ACTION: Notice.

SUMMARY: A determination has been made to waive permanently the import sanction against certain activities of the Chinese government that was announced on September 19, 2003, pursuant to the Arms Export Control Act, as amended.

DATES: Effective Date: March 12, 2007.

FOR FURTHER INFORMATION CONTACT: Pam Durham, Office of Missile Threat Reduction, Bureau of International Security and Nonproliferation, Department of State (202-647-4931).

SUPPLEMENTARY INFORMATION: A determination was made on September 13, 2006, pursuant to section 73(e) of the Arms Export Control Act (22 U.S.C. 2797b(e)), that it was essential to the national security of the United States to waive for an additional six months the import sanction described in Section 73(a)(2)(C) of the Arms Export Control Act (22 U.S.C. 2797b(a)(2)(C)) against the activities of the Chinese government described in section 74(a)(8)(B) of the Arms Export Control Act (22 U.S.C. 2797c(a)(8)(B))—activities of the Chinese government relating to the development or production of any missile equipment or technology and activities of the Chinese government affecting the development or production of electronics, space systems or equipment, and military aircraft (see Federal Register Vol. 68, no. 182, Friday, Sept. 19, 2003). This action was effective on September 18, 2006.

On March 12, 2007, a determination was made pursuant to section 73(e) of the Arms Export Control Act (22 U.S.C. 2797b(e)) that it is essential to the national security of the United States to waive permanently the sanctions, effective from the date of expiration of the previous waiver (March 18, 2007).

These measures shall be implemented by the responsible agencies as provided in Executive Order 12851 of June 11, 1993.

Dated: March 14, 2007.
John C. Rood,
Assistant Secretary of State for International Security and Nonproliferation, Department of State.

[FR Doc. E7-5254 Filed 3-21-07; 8:45 am]

BILLING CODE 4710-25-P